DEPARTMENT OF COMMERCE

International Trade Administration

[C-570-955]

Certain Magnesia Carbon Bricks From the People's Republic of China: Rescission of Countervailing Duty Administrative Review; 2016

AGENCY: Enforcement and Compliance, International Trade Administration, Department of Commerce.

SUMMARY: The Department of Commerce (Commerce) is rescinding the administrative review of the countervailing duty (CVD) order on certain magnesia carbon bricks (MCBs) from the People's Republic of China (China) for the period of review (POR) January 1, 2016, through December 31, 2016.

DATES: Applicable May 17, 2019.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

Commerce published the Preliminary Results of this administrative review on October 11, 2018.¹ For a history of the events that occurred since the Preliminary Results, see the Issues and Decision Memorandum.² On January 28, 2019, Commerce tolled the deadlines in this case and for the final results by 40 days.³ On March 5, 2019, Commerce extended the deadline for these final results to May 7, 2019.⁴

¹ See Certain Magnesia Carbon Bricks from the People's Republic of China: Preliminary Results of the Countervailing Duty Administrative Review; 2016, 83 FR 51444 (October 11, 2018) (Preliminary Results) and accompanying Preliminary Decision Memorandum, “Decision Memorandum for the Preliminary Results of the Administrative Review of the Countervailing Duty Order on Certain Magnesia Carbon Bricks from the People's Republic of China; 2016.”

² See Memorandum, “Certain Magnesia Carbon Bricks from the People's Republic of China: Issues and Decision Memorandum for the Final Results of the 2016 Countervailing Duty Administrative Review,” which is dated concurrently with these final results and is hereby adopted by this notice (Issues and Decision Memorandum).

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. As a result, all deadlines in this segment of the proceeding have been extended by 40 days.

⁴ See Memorandum, “Administrative Review of the Countervailing Duty Order on Certain Magnesia Carbon Bricks from the People's Republic of China: Extension of Deadline for the Final Results,” dated March 5, 2019.

Analysis of Comments Received

All issues raised by interested parties in their case and rebuttal briefs, and our analysis thereof, are addressed in the Issues and Decision Memorandum. The issues are identified in the Appendix to this notice. The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed directly on the internet at http://trade.gov/enforcement/frn/index.html. The signed Issues and Decision Memorandum and the electronic version of the Issues and Decision Memorandum are identical in content.

Rescission of Administrative Review

It is Commerce's practice to rescind an administrative review of a CVD order, pursuant to 19 CFR 351.213(d)(3), when there are no reviewable entries of subject merchandise during the POR for which liquidation is suspended.⁵ Normally, upon completion of an administrative review of a CVD order, the suspended entries are liquidated at the assessment rate calculated for the review period.⁶ Therefore, for an administrative review to be conducted, there must be a reviewable, suspended entry for which Commerce can instruct U.S. Customs and Border Protection (CBP) to liquidate at the newly calculated assessment rate.⁷ Based on our examination of the record, we continue to find that there is no evidence of reviewable entries, shipments, or U.S. sales of subject merchandise during the POR.⁸ Accordingly, in the absence of suspended entries of subject merchandise during the POR for this administrative review, Commerce is rescinding this administrative review of the CVD order on MCBs from China, pursuant to 19 CFR 351.213(d)(3). Commerce intends to issue appropriate assessment instructions to CBP 15 days after the date of publication of this notice.

⁵ See, e.g., Certain Welded Carbon Steel Standard Pipe and Tube from Turkey: Notice of Final Rescission of Countervailing Duty Administrative Review, In Part, 77 FR 6542 (February 8, 2012) and accompanying Issues and Decision Memorandum at 2; Certain Magnesia Carbon Bricks from China: Rescission of Countervailing Duty Administrative Review; 2014, 82 FR 4300 (January 13, 2017) (China MCBs 2014 AR).

⁶ See 19 CFR 351.212(b)(1).

⁷ See China MCBs 2014 AR.

⁸ See Issues and Decision Memorandum at sections, “Rescission of Administrative Review,” and “Discussion of the Issue.”

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing this notice in accordance with sections 751(a)(1) and 777(1) of the Tariff Act of 1930, as amended, and 19 CFR 351.213(d)(4).

Dated: May 7, 2019.
Jeffrey I. Kessler,
Assistant Secretary for Enforcement and Compliance.

Appendix

List of Topics Discussed in the Issues and Decision Memorandum

I. Summary

II. Background

III. Scope of the Order

IV. Rescission of Administrative Review

V. Discussion of the Issue: Treatment of Fedmet

VI. Recommendation

[FR Doc. 2019-10273 Filed 5-16-19; 8:45 am]

BILLING CODE 3510-DS-P